DEPARMENT OF HEALTH AND HUMAN SERVICES

Centers for Medicare & Medicaid Services

42 CFR Part 438

[CMS-2104-F]

RIN 0938-AK96

Medicaid Program; Medicaid Managed Care: New Provisions

Correction

In rule document 02-14747 beginning on page 40988 in the issue of Friday, June 14, 2002, make the following correction:

§ 438.214 [Corrected]

On page 41108, in the second column, in §438.214, in the second paragraph, in the first line “(a)” should read “(b)”.

[FR Doc. C2-14747 Filed 8-21-02; 8:45 am]

BILLING CODE 1505-01-D